DEPARTMENT OF DEFENSE

Department of the Army

Final Environmental Assessment (EA) and Draft Finding of No Significant Impact (FNSI) for the Base Realignment and Closure 95 Disposal and Reuse of Excess Property, Fort Dix, NJ

AGENCY: Department of the Army, DoD.

ACTION: Notice of availability.

SUMMARY: In accordance with Public Law 101-510 (as amended), the Defense Base Closure and Realignment Act of 1990, the Defense Base Closure and Realignment Commission recommended the disposal and reuse of excess property at Fort Dix.

The EA evaluates the environmental impacts of the disposal of surplus property made available by the realignment of Fort Dix. Approximately 35 acres of surplus property would be conveyed to the State of New Jersey. Alternatives examined in this EA include no action, unencumbered disposal of the property and encumbered disposal of the property. Encumbered disposal refers to transfer or conveyance of property having restrictions on subsequent use as a result of any Army-imposed or legal restraint. Under the no action alternative, the Army would not dispose of the excess or surplus property but would maintain it indefinitely in accordance with current leases and permits.

DATES: Comments must be submitted on or before August 18, 2003.

ADDRESSES: Copies of the Final EA and Draft FNSI may be obtained by writing to Mr. Don Conlon, U.S. Army Corps of Engineers—Mobile District, Environmental Resources Branch, 109 St. Joseph St., Mobile, Alabama 36628-0001.

FOR FURTHER INFORMATION CONTACT: Mr. Conlon via phone at (334) 690-2609 or by fax at (334) 690-2605.

SUPPLEMENTARY INFORMATION: While disposal of surplus property at Fort Dix is the Army's primary action, the EA also analyzes the potential environmental effects of redevelopment and reuse as a secondary impact by means of evaluating intensity-based reuse scenarios. The Army's preferred alternative for disposal of surplus real property at Fort Dix is encumbered disposal, with encumbrances pertaining to use restrictions, asbestos-containing material, lead-based paint, and utility dependencies.

A Notice of Intent declaring the Army's intent to prepare an EA for the disposal and reuse of surplus Fort Dix property was published in the Federal Register (60 FR 49264, September 22, 1995).

The EA and Draft FNSI are available for review at the Corps of Engineers, Mobile District.

Dated: July 14, 2003.
Raymond J. Fatz,
Deputy Assistant Secretary of the Army (Environment, Safety and Occupational Health) OASA(I&E).

[FR Doc. 03-18242 Filed 7-17-03; 8:45 am]

BILLING CODE 3710-08-M